DEPARTMENT OF DEFENSE

Office of the Secretary

[Docket ID: DoD-2021-OS-0002]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 22, 2021.

ADDRESSES: You may submit comments, identified by docket number and title, by any of the following methods:

• Federal eRulemaking Portal: http://www.regulations.gov. Follow the instructions for submitting comments.

• Mail: The Department of Defense (DoD) cannot receive written comments at this time due to the COVID-19 pandemic. Comments should be sent electronically to the docket listed above.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Rand Corporation, 1200 South Hayes Street, Arlington, VA 22202, Towanda Street, 703-614-0823.

SUPPLEMENTARY INFORMATION: Title; Associated Form; and OMB Number: Needs Assessment of Child and Youth Non-Medical Counseling; OMB Control Number 0704-XXXX.

Needs and Uses: In order for the DoD to best and most efficiently serve the needs of military children, it is important to know how the CYB-MFLC program fits within the landscape of family and child support systems to meet the needs and expectations of stakeholders. It is also important to identify where gaps in services remain and to identify the emerging needs of military children and youth that could be potentially filled or addressed by the CYB-MFLC program. Assessing how prevalent those needs and gaps are, and whether there is variation in these needs across locations, will inform modifications to the program to strengthen alignment of the scope of its services with other sources of support, resulting in improved coordinated care for military children in the school environment.

Affected Public: Individuals or Households.

Annual Burden Hours: 45.

Number of Respondents: 180.

Responses per Respondent: 1.

Annual Responses: 180.

Average Burden per Response: 15 minutes.

Frequency: Once.

Respondents are school principals at civilian schools involved with the CYB-MFLC program. Respondents will provide information, currently not available in any other source, about the breadth and depth of the unique non-medical counseling needs of military children and the ways in which the CYB-MFLC program is or is not meeting those needs.

Dated: January 12, 2021.
Aaron T. Siegel,
Alternate OSD Federal Register Liaison Officer, Department of Defense.

[FR Doc. 2021-00997 Filed 1-15-21; 8:45 am]

BILLING CODE 5001-06-P